BUREAU OF CONSUMER FINANCIAL PROTECTION

Privacy Act of 1974, as Amended

AGENCY: Bureau of Consumer Financial Protection.

ACTION: Notice of a revised Privacy Act System of Records.

SUMMARY: In accordance with the Privacy Act of 1974, as amended, the Bureau of Consumer Financial Protection, hereinto referred to as the Consumer Financial Protection Bureau (CFPB or Bureau), gives notice of the establishment of a revised Privacy Act System of Records.

DATES: Comments must be received no later than January 16, 2014. The new system of records will be effective January 27, 2014, unless the comments received result in a contrary determination.

ADDRESSES: You may submit comments by any of the following methods:

• Electronic: privacy@cfpb.gov.

• Mail/Hand Delivery/Courier: Claire Stapleton, Chief Privacy Officer, Consumer Financial Protection Bureau, 1700 G Street NW., Washington, DC 20552.

Comments will be available for public inspection and copying at 1700 G Street NW., Washington, DC 20552 on official business days between the hours of 10 a.m. and 5 p.m. Eastern Time. You can make an appointment to inspect comments by telephoning (202) 435-7220. All comments, including attachments and other supporting materials, will become part of the public record and subject to public disclosure. You should submit only information that you wish to make available publicly.

FOR FURTHER INFORMATION CONTACT: Claire Stapleton, Chief Privacy Officer, Consumer Financial Protection Bureau, 1700 G Street NW., Washington, DC 20552, (202) 435-7220.

SUPPLEMENTARY INFORMATION: The CFPB revises its Privacy Act System of Records Notice (SORN) “CFPB.011—Correspondence Tracking Database.” In revising this SORN, the CFPB modifies the purpose(s) for which the system is maintained; the categories of individuals for the system; the categories of records for the system; the record source categories for the system; the method by which records are retrieved in the system; and the retention and disposal of records in the system. Additionally, as part of a biennial review of this System of Record, the CFPB modifies: the notification procedures for individuals seeking access to records maintained in this system; the system location and address; and makes several non-substantive changes to the routine use section to ensure compliance with the Privacy Act, 5 U.S.C. 552a.

The report of the revised system of records has been submitted to the Committee on Oversight and Government Reform of the House of Representatives, the Committee on Homeland Security and Governmental Affairs of the Senate, and the Office of Management and Budget, pursuant to Appendix I to OMB Circular A-130, “Federal Agency Responsibilities for Maintaining Records About Individuals,” dated November 30, 2000,¹ and the Privacy Act, 5 U.S.C. 552a(r). The revised system of records entitled “CFPB.011—Correspondence Tracking Database” is published in its entirety below.

¹ Although pursuant to section 1017(a)(4)(E) of the Consumer Financial Protection Act, Public Law 111-203, the CFPB is not required to comply with OMB-issued guidance, it voluntarily follows OMB privacy-related guidance as a best practice and to facilitate cooperation and collaboration with other agencies.

Dated: December 12, 2013.

Claire Stapleton,
Chief Privacy Officer, Bureau of Consumer Financial Protection.

CFPB.011

System Name:

Correspondence Tracking Database

System Location:

Consumer Financial Protection Bureau, 1700 G Street NW., Washington, DC 20552.

Categories of Individuals Covered by the System:

Individuals who submit correspondence, or who have correspondence submitted on their behalf to the CFPB, or who request to receive correspondence from the Bureau, and CFPB employees responsible for processing, reviewing, and/or responding to such correspondence.

Categories of Records in the System:

Records in this system may contain (1) correspondence (including, without limitation, official letters, memoranda, faxes, telegrams, and emails) received and sent by the Bureau; (2) mailing lists of individuals who submit correspondence, or who have correspondence submitted on their behalf to the Bureau or request to receive correspondence from the Bureau; (3) identifying information regarding individuals who submit the correspondence, individuals or entities on whose behalf such correspondence is submitted, or individuals who request to receive correspondence from the Bureau, such as name, phone number, address, email address, and any other disclosed identifiable information; (4) information about the correspondence, including disposition, tracking dates, and where applicable, the type of correspondence; and (5) information concerning the CFPB employee responsible for processing the correspondence, including contact information, position or title, and information about internal assignments. Supporting records may include correspondence between the CFPB and the individual. This system does not contain all correspondence received or sent by the Bureau—for example, records related to consumer complaints will not be contained in this system—and some correspondence is maintained in other Bureau systems of records.

Authority for Maintenance of the System:

Public Law 111-203, Title X, Sections 1011, 1012, 1013, codified at 12 U.S.C. 5491, 5492, 5493.

Purpose(S):

The purpose of the Correspondence Tracking Database is to enable the CFPB to track correspondence, including responsibilities for processing, tracking, responding to, or referring sensitive and/or time-critical correspondence for appropriate processing and responsive action, and to manage mailing lists of individuals who submit correspondence to the Bureau, have correspondence submitted on their behalf, or have requested to receive correspondence from the Bureau.

Routine Uses of Records Maintained in the System, Including Categories of Users and the Purposes of Such Uses:

These records may be disclosed, consistent with the CFPB's Disclosure of Records and Information Rules, promulgated at 12 CFR part 1070 et seq., to:

(1) Appropriate agencies, entities, and persons when: (a) the CFPB suspects or has confirmed that the security or confidentiality of information in the system of records has been compromised; (b) the CFPB has determined that, as a result of the suspected or confirmed compromise, there is a risk of harm to economic or property interests, identity theft or fraud, or harm to the security or integrity of this system or other systems or programs (whether maintained by the CFPB or another agency or entity) that rely upon the compromised information; and (c) the disclosure made to such agencies, entities, and persons is reasonably necessary to assist in connection with the CFPB's efforts to respond to the suspected or confirmed compromise and prevent, minimize, or remedy such harm;

(2) Another federal or state agency to (a) permit a decision as to access, amendment or correction of records to be made in consultation with or by that agency, or (b) verify the identity of an individual or the accuracy of information submitted by an individual who has requested access to or amendment or correction of records;

(3) The Office of the President in response to an inquiry from that office made at the request of the subject of a record or a third party on that person's behalf;

(4) Congressional offices in response to an inquiry made at the request of the individual to whom the record pertains;

(5) Contractors, agents, or other authorized individuals performing work on a contract, service, cooperative agreement, job, or other activity on behalf of the CFPB or Federal Government and who have a need to access the information in the performance of their duties or activities;

(6) The DOJ for its use in providing legal advice to the CFPB or in representing the CFPB in a proceeding before a court, adjudicative body, or other administrative body, where the use of such information by the DOJ is deemed by the CFPB to be relevant and necessary to the advice or proceeding, and such proceeding names as a party in interest:

(a) The CFPB;

(b) Any employee of the CFPB in his or her official capacity;

(c) Any employee of the CFPB in his or her individual capacity where DOJ has agreed to represent the employee; or

(d) The United States, where the CFPB determines that litigation is likely to affect the CFPB or any of its components;

(7) A grand jury pursuant either to a federal or state grand jury subpoena, or to a prosecution request that such record be released for the purpose of its introduction to a grand jury, where the subpoena or request has been specifically approved by a court. In those cases where the Federal Government is not a party to the proceeding, records may be disclosed if a subpoena has been signed by a judge;

(8) A court, magistrate, or administrative tribunal in the course of an administrative proceeding or judicial proceeding, including disclosures to opposing counsel or witnesses (including expert witnesses) in the course of discovery or other pre-hearing exchanges of information, litigation, or settlement negotiations, where relevant or potentially relevant to a proceeding, or in connection with criminal law proceedings;

(9) Appropriate agencies, entities, and persons, to the extent necessary to respond to or refer correspondence; and

(10) Appropriate federal, state, local, foreign, tribal, or self-regulatory organizations or agencies responsible for investigating, prosecuting, enforcing, implementing, issuing, or carrying out a statute, rule, regulation, order, policy, or license if the information may be relevant to a potential violation of civil or criminal law, rule, regulation, order, policy or license.

Policies and Practices For Storing, Retrieving, Accessing, Retaining, and Disposing of Records in the System:

Storage:

Paper and electronic records.

Retrievability:

Records are retrievable by a variety of fields including, but not limited to, an individual's name, email address or other contact information, by date of correspondence, topic of correspondence, correspondence control number or by some combination thereof.

Safeguards:

Access to electronic records is restricted to authorized personnel who have been issued non-transferrable access codes and passwords. Other records are maintained in locked file cabinets or rooms with access limited to those personnel whose official duties require access.

Retention and Disposal:

Per N1-587-12-06, records in this system are deleted or destroyed three (3) years after the calendar year in which it was created.

System Manager(S) and Address:

Consumer Financial Protection Bureau, Chief Operating Officer, 1700 G Street NW., Washington, DC 20552.

Notification Procedure:

Individuals seeking notification and access to any record contained in this system of records, or seeking to contest its content, may inquire in writing in accordance with instructions appearing the CFPB's Disclosure of Records and Information Rules, promulgated at 12 CFR part 1070 et seq. Address such requests to: Chief Privacy Officer, Bureau of Consumer Financial Protection, 1700 G Street NW., Washington, DC 20552.

Record Access Procedures:

See “Notification Procedures” above.

Contesting Record Procedures:

See “Notification Procedures” above.

Record Source Categories:

Information contained in the system will be collected from a variety of sources, including, without limitation, individuals who submit correspondence, or who have correspondence submitted on their behalf to the CFPB, or who have requested to receive correspondence from the Bureau, and CFPB employees responsible for processing, reviewing, and/or responding to such correspondence.

Exemptions Claimed for the System:

None.

[FR Doc. 2013-29969 Filed 12-16-13; 8:45 am]

BILLING CODE 4810-AM-P